DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before (Insert date 20 days after publication in the FEDERAL REGISTER). Address written comments to Statutory Import Programs Staff, Room 2104, U.S. Department of Commerce, Washington, D.C. 20230. Applications may be examined between 8:30 A.M. and 5:00 P.M. at the U.S. Department of Commerce in Room 2104.

Docket Number: 08-055. Applicant: House Ear Institute, 2100 W. Third Street, Los Angeles, CA 90057. Instrument: Electron Microscope, Model Technai G2 20 TEM. Manufacturer: FEI Company, Czech Republic. Intended Use: The instrument will be installed in a multi-user shared imaging facility and is intended to be used in hearing research on the cochlea, the mammalian organ of hearing. Specifically, it will be used for examining the cochlear tissues, cells and cell fragments to determine how the normal cochlea functions and how hearing defects affect ultrastructural morphology and protein distribution. Application accepted by Commissioner of Customs: November 3, 2008.

Dated: December 3, 2008.
Christopher Cassel,
Director, Statutory Import Programs Staff, Import Administration.

[FR Doc. E8-29124 Filed 12-8-08; 8:45 am]

Billing Code: 3510-DS-S